SECURITIES AND EXCHANGE COMMISSION

[File No. 500-1]

TapSlide, Inc., TTC Technology Corp. (f/k/a SmarTire Systems Inc.), TWL Corp., TXP Corp., Valentec Systems, Inc. (f/k/a Acorn Holdings Corp.), Verdant Technology Corp., and VPGI Corp.; Order of Suspension of Trading

January 19, 2012.

It appears to the Securities and Exchange Commission that there is a lack of current and accurate information concerning the securities of TapSlide, Inc. because it has not filed any periodic reports since the period ended July 31, 2009.

It appears to the Securities and Exchange Commission that there is a lack of current and accurate information concerning the securities of TTC Technology Corp. (f/k/a SmarTire Systems Inc.) because it has not filed any periodic reports since the period ended April 30, 2009.

It appears to the Securities and Exchange Commission that there is a lack of current and accurate information concerning the securities of TWL Corp. because it has not filed any periodic reports since the period ended March 31, 2008.

It appears to the Securities and Exchange Commission that there is a lack of current and accurate information concerning the securities of TXP Corp. because it has not filed any periodic reports since the period ended September 30, 2008.

It appears to the Securities and Exchange Commission that there is a lack of current and accurate information concerning the securities of Valentec Systems, Inc. (f/k/a Acorn Holdings Corp.) because it has not filed any periodic reports since the period ended September 30, 2007.

It appears to the Securities and Exchange Commission that there is a lack of current and accurate information concerning the securities of Verdant Technology Corp. because it has not filed any periodic reports since the period ended December 31, 2008.

It appears to the Securities and Exchange Commission that there is a lack of current and accurate information concerning the securities of VPGI Corp. because it has not filed any periodic reports since it filed a registration statement on March 31, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 19, 2012, through 11:59 p.m. EST on February 1, 2012.

By the Commission.
Elizabeth M. Murphy,
Secretary.

[FR Doc. 2012-1298 Filed 1-19-12; 11:15 am]

BILLING CODE 8011-01-P